DEPARTMENT OF COMMERCE

National Oceanic and Atmospheric Administration

[RTID: 0648-XB682]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will conduct two informational meetings regarding Atlantic mackerel rebuilding.

DATES: The meetings will be held on Tuesday, January 11, 2022 and Wednesday, January 12, 2022 both starting at 7 p.m. and concluding by 9 p.m. See SUPPLEMENTARY INFORMATION for agenda details.

ADDRESSES: The meeting will take place over webinar using the Webex platform. Details on how to connect to the webinar by computer and/or telephone will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: Due to the continued poor condition of the Atlantic mackerel stock as determined by a 2021 management track stock assessment (https://www.mafmc.org/s/c_2021-Atlantic-Mackerel-MT-assessment-report.pdf), the MAFMC is revising the rebuilding plan for Atlantic mackerel. Additional commercial and recreational management measures are being considered. These meetings will review the stock assessment, expected quotas for upcoming years, and potential management measures. Public comment is invited, and will be used to inform the development of management measures. Final action by the MAFMC is expected in June 2022, and additional meetings and hearings are planned before final action (and will be noticed separately).

Special Accommodations

These meetings are physically accessible to people with disabilities. Requests for sign language interpretation or other auxiliary aid should be directed to Shelley Spedden, (302) 526-5251, at least 5 days prior to the meeting date.

Authority: 16 U.S.C. 1801 et seq.

Dated: December 22, 2021.
Tracey L. Thompson,
Acting Deputy Director, Office of Sustainable Fisheries, National Marine Fisheries Service.

[FR Doc. 2021-28233 Filed 12-28-21; 8:45 am]

BILLING CODE 3510-22-P